DEPARTMENT OF LABOR

Occupational Safety and Health Administration

[Docket No. OSHA-2009-0016]

Process Safety Management of Highly Hazardous Chemicals (PSM) Standard; Extension of the Office of Management and Budget's (OMB) Approval of Information Collection (Paperwork) Requirements

AGENCY: Occupational Safety and Health Administration (OSHA), Labor.

ACTION: Request for public comment.

SUMMARY: OSHA solicits public comments concerning its request for an extension of the Office of Management and Budget's (OMB) approval of the information collection requirements specified in the Standard on Process Safety Management of Highly Hazardous Chemicals (PSM) (29 CFR 1910.119).

DATES: Comments must be submitted (postmarked, sent, or received) by November 9, 2009.

ADDRESSES: Electronically: You may submit comments and attachments electronically at http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit three copies of your comments and attachments to the OSHA Docket Office, Docket No. OSHA-2009-0016, U.S. Department of Labor, Occupational Safety and Health Administration, Room N-2625, 200 Constitution Avenue, NW., Washington, DC 20210. Deliveries (hand, express mail, messenger, and courier service) are accepted during the Department of Labor's and Docket Office's normal business hours, 8:15 a.m. to 4:45 p.m., e.t.

Instructions: All submissions must include the Agency name and OSHA docket number (OSHA-2009-0016) for the Information Collection Request (ICR). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download through the Web site. All submissions, including copyrighted material, are available for inspection and copying at the OSHA Docket Office. You may also contact Theda Kenney at the address below to obtain a copy of the ICR.

FOR FURTHER INFORMATION CONTACT: Theda Kenney or Todd Owen, Directorate of Standards and Guidance, OSHA, U.S. Department of Labor, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

The collections of information in the PSM Standard are necessary for implementing the requirements of the Standard. The information is used by employers to assure that processes using highly hazardous chemicals with the potential for a catastrophic release are operated as safely as possible. The employer must thoroughly consider all facets of a process, as well as the involvement of workers in that process. Employers analyze processes so that they can identify and control problems that could lead to a major release, fire, or explosion.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting that OMB extend its approval of the information collection requirements contained in the Standard on Process Safety Management of Highly Hazardous Chemicals (PSM) (29 CFR 1910.119). OSHA is proposing to decrease the existing burden hour estimate for the collection of information requirements specified in the PSM Standard from 47,852,750 hours to 3,632,487 hours (a total reduction of 44,220,263 hours). In determining the burden hours associated with this ICR, OSHA relied on information in the Environmental Protection Agency's (EPA) Risk Management Program (RMP) database to estimate the number of establishments and processes that must comply with the paperwork requirements for the PSM Standard. The RMP showed a reduction in establishments and processes; due mainly to efforts of affected employers to find substitute substances for the PSM chemicals and to reduce inventories of chemicals and flammables, but also because the original estimates by the Agency of the average number of processes per establishment proved to be much higher than can be consistent with, or supported by, data in the RMP database today. In addition, after the PSM rule was promulgated and paperwork packages were updated every three years, OSHA had increased the estimated number of affected establishments proportionately with increases reported in the number of establishments in an industry over time, without regard to employers reacting to the PSM Standard.

For example, if the number of establishments in an industry increased from 10,000 to 12,000 between 1994 and 2006, OSHA increased the estimated number of PSM-affected establishments in that industry by 20 percent.

Type of Review: Extension of a currently approved collection.

Title: Process Safety Management of Highly Hazardous Chemicals (29 CFR 1910.119).

OMB Number: 1218-0200.

Affected Public: Business or other for-profits; not-for-profit organizations; Federal Government; State, local or Tribal Government.

Number of Respondents: 7,562.

Frequency: On occasion.

Average Time per Response: Varies from three minutes to generate and maintain training certification records to 2,454.4 hours to establish and implement a management-of-change program.

Estimated Total Burden Hours: 3,632,487.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (FAX); or (3) by hard copy. All comments, attachments, and other material must identify the Agency name and the OSHA docket number for the ICR (Docket No. OSHA-2009-0016). You may supplement electronic submissions by uploading document files electronically. If you wish to mail additional materials in reference to an electronic or facsimile submission, you must submit them to the OSHA Docket Office (see the section of this notice titled ADDRESSES). The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350 (TTY (877) 889-5627).

Comments and submissions are posted without change at http://www.regulations.gov. Therefore, OSHA cautions commenters about submitting personal information such as social security numbers and date of birth. Although all submissions are listed in the http://www.regulations.gov index, some information (e.g., copyrighted material) is not publicly available to read or download through this Web site. All submissions, including copyrighted material, are available for inspection and copying at the OSHA Docket Office. Information on using the http://www.regulations.gov Web site to submit comments and access the docket is available at the Web site's “User Tips” link. Contact the OSHA Docket Office for information about materials not available through the Web site, and for assistance in using the Internet to locate docket submissions.

V. Authority and Signature

Jordan Barab, Acting Assistant Secretary of Labor for Occupational Safety and Health, directed the preparation of this notice. The authority for this notice is the Paperwork Reduction Act of 1995 (44 U.S.C. 3506 et seq.) and Secretary of Labor's Order No. 5-2007 (72 FR 31160).

Signed at Washington, DC, this 31st day of August 2009.
Jordan Barab,
Acting Assistant Secretary of Labor for Occupational Safety and Health.

[FR Doc. E9-21743 Filed 9-9-09; 8:45 am]

BILLING CODE 4510-26-P